DEPARTMENT OF COMMERCE

International Trade Administration

[A-570-036]

Certain Biaxial Integral Geogrid Products From the People's Republic of China: Antidumping Duty Order

AGENCY: Enforcement and Compliance, International Trade Administration, Department of Commerce.

SUMMARY: Based on affirmative final determinations by the Department of Commerce (the Department) and the International Trade Commission (ITC), the Department is issuing the antidumping duty order on certain biaxial integral geogrid products (geogrids) from the People's Republic of China (PRC).

DATES: Effective March 3, 2017.

FOR FURTHER INFORMATION CONTACT: Julia Hancock at (202) 482-1394, AD/CVD Operations, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), and 19 CFR 351.210(c), on January 11, 2017, the Department published its affirmative final determination in the less-than-fair-value (LTFV) investigation of geogrids from the PRC.¹ On February 24, 2017, the ITC notified the Department of its affirmative determination that an industry in the United States is materially injured within the meaning of section 735(b)(1)(A)(i) of the Act, by reason of the LTFV imports of geogrids from the PRC, and of its determination that critical circumstances do not exist with respect to imports of subject merchandise from the PRC that are subject to the Department's affirmative critical circumstances finding.²

¹ See Certain Biaxial Integral Geogrid Products from the People's Republic of China: Final Determination of Sales at Less Than Fair Value, 82 FR 3284 (January 11, 2017) and accompanying Issues and Decision Memorandum.

² See Letter to Ronald Lorentzen, Acting Assistant Secretary of Commerce for Enforcement and Compliance, from Rhonda K. Schmidtlein, Chairman of the U.S. International Trade Commission, regarding geogrids from the PRC (February 24, 2016) (ITC Letter).

Scope of the Order

The scope of this order covers geogrids from the PRC. For a complete description of the scope, see Appendix.

Antidumping Duty Order

On February 24, 2017, in accordance with section 735(d) of the Act, the ITC notified the Department of its final determination in this investigation, in which it found that an industry in the United States is materially injured by reason of imports of geogrids from the PRC, and that critical circumstances do not exist with respect to imports of subject merchandise that are subject to the Department's affirmative critical circumstances finding.³ Therefore, in accordance with section 735(c)(2) of the Act, the Department is issuing this antidumping duty order. Because the ITC determined that imports of geogrids from the PRC are materially injuring a U.S. industry, unliquidated entries of such merchandise from the PRC, entered or withdrawn from warehouse for consumption, are subject to the assessment of antidumping duties.

³ See ITC Letter.

Therefore, in accordance with section 736(a)(1) of the Act, the Department will direct U.S. Customs and Border Protection (CBP) to assess, upon further instruction by the Department, antidumping duties equal to the amount by which the normal value of the merchandise exceeds the export price (or constructed export price) of the merchandise, for all relevant entries of geogrids from the PRC. Antidumping duties will be assessed on unliquidated entries of geogrids entered, or withdrawn from warehouse, for consumption on or after August 22, 2016, the date of publication of the Preliminary Determination,⁴ but will not include entries occurring after the expiration of the provisional measures period and before publication of the ITC's final injury determination as further described below.

⁴ See Certain Biaxial Integral Geogrid Products from the People's Republic of China: Affirmative Preliminary Determination of Sales at Less Than Fair Value, Affirmative Determination of Critical Circumstances, in Part, and Postponement of Final Determination, 81 FR 56584 (August 22, 2016) (Preliminary Determination) and accompanying Preliminary Decision Memorandum.

Suspension of Liquidation

In accordance with section 735(c)(1)(B) of the Act, we will instruct CBP to reinstitute the suspension of liquidation of geogrids from the PRC. We will also instruct CBP to require cash deposits equal to the estimated amount by which the normal value exceeds the U.S. price as indicated in the chart below, adjusted where appropriate for export subsidies and estimated domestic subsidy pass-through.⁵ These instructions suspending liquidation will remain in effect until further notice.

⁵ See Final Determination, 82 FR at 3286 (describing the adjustments to the AD duty rate for the PRC-wide entity in more detail); see also sections 772(c)(1)(C) and 777A(f) of the Act, respectively.

Accordingly, effective on the date of publication of the ITC's final affirmative determinations, CBP will require, at the same time as importers would normally deposit estimated duties on this subject merchandise, a cash deposit equal to the estimated weighted-average dumping margins, adjusted where appropriate for export subsidies and estimated domestic subsidy pass-through.⁶ The “PRC-wide” rate applies to all exporters of subject merchandise.

⁶ Id. at 3286 (we did not make any adjustment to the cash deposit rates for export subsidy rates or domestic subsidy pass-through).

⁷ As discussed in the Final Determination, the PRC-wide entity includes BOSTD Geosynthetics Qingdao Ltd. (BOSTD) and Taian Modern Plastic Co., Ltd. (Taian Modern).

Exporter or producer | Weighted- average dumping margin (percent) | Cash deposit rate (percent)
PRC-Wide Entity ⁷ | 372.81 | 372.81

Provisional Measures

Section 733(d) of the Act states that instructions issued pursuant to an affirmative preliminary determination may not remain in effect for more than four months, except where exporters representing a significant proportion of exports of the subject merchandise request the Department to extend that four-month period to no more than six months. At the request of an exporter that accounted for a significant proportion of exports of geogrids from the PRC, we extended the four-month period to no more than six-months.⁸ In the underlying investigation, the Department published the Preliminary Determination on August 22, 2016. Therefore, the six-month period beginning on the date of the publication of the Preliminary Determination ended on February 22, 2017. Furthermore, section 737(b) of the Act states that definitive duties are to begin on the date of publication of the ITC's final injury determination.

⁸ See Preliminary Determination, 81 FR at 56586.

Therefore, in accordance with section 733(d) of the Act and our practice, we will instruct CBP to terminate the suspension of liquidation and to liquidate, without regard to antidumping duties, unliquidated entries of geogrids from the PRC entered, or withdrawn from warehouse, for consumption after February 22, 2017, the date the provisional measures expired, until and through the day preceding the date of publication of the ITC's final injury determination in the Federal Register. Suspension of liquidation will resume on the date of publication of the ITC's final determination in the Federal Register.

Critical Circumstances

With regard to the ITC's negative critical circumstances determination on imports of geogrids from the PRC, we will instruct CBP to lift suspension and to refund any cash deposits made to secure the payment of estimated antidumping duties with respect to geogrids from the PRC entered, or withdrawn from warehouse, for consumption on or after May 24, 2016 (i.e., 90 days prior to the date of publication of the Preliminary Determination), but before August 22, 2016 (i.e., the date of publication of the Preliminary Determination).

However, for the one respondent, BOSTD, where we found critical circumstances at the Final Determination, we will instruct CBP to lift suspension and to refund any cash deposits made to secure payment of estimated antidumping duties with respect to geogrids entered, or withdrawn from warehouse, for consumption by BOSTD on or after October 13, 2016 (i.e., 90 days prior to the date of publication of the Final Determination), but before January 11, 2017 (i.e., the date of publication of the Final Determination).

Notification to Interested Parties

This notice constitutes the antidumping duty order with respect to geogrids from the PRC pursuant to section 736(a) of the Act. Interested parties can find a list of antidumping duty orders currently in effect at http://enforcement.trade.gov/stats/iastats1.html.

This order is issued and published in accordance with section 736(a) of the Act and 19 CFR 351.211(b).

Dated: February 24, 2017.
Ronald K. Lorentzen,
Acting Assistant Secretary for Enforcement and Compliance.

Appendix

The products covered by the scope are certain biaxial integral geogrid products. Biaxial integral geogrid products are a polymer grid or mesh material (whether or not finished, slit, cut-to-length, attached to woven or non-woven fabric or sheet material, or packaged) in which four-sided openings in the form of squares, rectangles, rhomboids, diamonds, or other four-sided figures predominate. The products covered have integral strands that have been stretched to induce molecular orientation into the material (as evidenced by the strands being thinner in width toward the middle between the junctions than at the junctions themselves) constituting the sides of the openings and integral junctions where the strands intersect. The scope includes products in which four-sided figures predominate whether or not they also contain additional strands intersecting the four-sided figures and whether or not the inside corners of the four-sided figures are rounded off or not sharp angles. As used herein, the term “integral” refers to strands and junctions that are homogenous with each other. The products covered have a tensile strength of greater than 5 kilonewtons per meter (“kN/m”) according to American Society for Testing and Materials (“ASTM”) Standard Test Method D6637/D6637M in any direction and average overall flexural stiffness of more than 100,000 milligram-centimeter according to the ASTM D7748/D7748M Standard Test Method for Flexural Rigidity of Geogrids, Geotextiles and Related Products, or other equivalent test method standards.

Subject merchandise includes material matching the above description that has been finished, packaged, or otherwise further processed in a third country, including by trimming, slitting, coating, cutting, punching holes, stretching, attaching to woven or non-woven fabric or sheet material, or any other finishing, packaging, or other further processing that would not otherwise remove the merchandise from the scope of the investigations if performed in the country of manufacture of the biaxial integral geogrid.

The products subject to the scope are currently classified in the Harmonized Tariff Schedule of the United States (“HTSUS”) under the following subheading: 3926.90.9995. Subject merchandise may also enter under subheadings 3920.20.0050 and 3925.90.0000. The HTSUS subheadings set forth above are provided for convenience and U.S. Customs purposes only. The written description of the scope is dispositive.

[FR Doc. 2017-04131 Filed 3-2-17; 8:45 am]

BILLING CODE 3510-DS-P